DEPARTMENT OF TRANSPORTATION

Federal Aviation Administration

Notice of Passenger Facility Charge (PFC) Approvals and Disapprovals

AGENCY: Federal Aviation Administration (FAA), DOT.

ACTION: Monthly Notice of PFC approvals and disapprovals. In October 2003, there were three application approved. Additionally, 13 approved amendments to previously approved applications are listed.

SUMMARY: The FAA publishes a monthly notice, as appropriate, of PFC approvals and disapprovals under the provisions of the Aviation Safety and Capacity Expansion Act of 1990 (Title IX of the Omnibus Budget Reconciliation Act of 1990) (Pub. L. 101-508) and part 158 of the Federal Aviation Regulations (14 CFR part 158). This notice is published pursuant to paragraph (d) of § 158.29.

PFC Applications Approved

Public Agency: Glynn County Airport Commission, Brunswick, Georgia.

Application Number: 03-02-U-00-BQK.

Application Type: Use PFC revenue.

PFC Level: $4.50.

Total PFC Revenue to be Used in This Decision: $572,623.

Charge Effective Date: May 1, 2001.

Estimated Charge Expiration Date: September 1, 2011.

Class of Air Carriers Not Required to Collect PFC'S: No change from previous decision.

Brief Description of Project Approved for Use: Airport terminal renovations.

Decision date: October 20, 2003.

FOR FURTHER INFORMATION CONTACT: Philip Cannon, Atlanta Airports District Office, (404) 305-7152.

Public Agency: Birmingham, Airport Authority, Birmingham. Alabama.

Application Number: 03-04-C-00-BHM.

PFC Level: $3.00.

Total PFC Revenue Approved in This Decision: $9,959,371.

Earliest Charge Effective Date: January 1, 2004.

Estimated Charge Expiration Date: April 1, 2007.

Class of Air Carriers Not Required To Collect PFCs: Part 135 air taxi/commercial operators filing FAA Form 1800-31.

Determination: Approved. Based on information contained in the public agency's application, the FAA has determined that the approved class accounts for less than 1 percent of the total annual enplanements at Birmingham International Airport.

Brief Description of Projects Approved for Collection and Use:

Replace and/or relocate the existing sanitary sewer lift station and associated lines.

Expand air carrier apron.

Runway 24 obstruction removal (four phases).

Brief Description of Disapproved Project: Demolition of old air traffic control tower.

Determination: Disapproved. Paragraph 593 of FAA Order 5100.38B, (Airport Improvement Program (AIP) Handbook (May 31, 2002)), limits the eligibility of air traffic control tower demolition to projects that constitute aviation hazards or impede an AIP project actually funded by an AIP grant or with PFC revenue. This tower has not been determined to be an aviation hazard nor does it impede any PFC or AIP project.

Decision Date: October 24, 2003.

FOR FURTHER INFORMATION CONTACT: Keafur Grimes, Jackson Airports District Office, (601) 664-9884.

Public Agency: Valdosta-Lowndes County Airport Authority, Valdosta, Georgia.

Application Number: 03-06-C-00-VLD.

Application Type: Impose and use a PFC.

PFC Level: $4.50.

Total PFC Revenue Approved in This Decision: $185,100.

Earliest Charge Effective Date: November 1, 2003.

Estimated Charge Expiration Date: June 1, 2005.

Class of Air Carriers Not Required To Collect PFCs: Non-scheduled large certificated route air carriers.

Determination: Approved. Based on information contained in the public agency's application, the FAA has determined that the approved class accounts for less than 1 percent of the total enplanements at Valdosta Regional Airport.

Brief Description of Projects Approved for Collection and Use:

PFC application 03-06-C-00-VLD.

Overlay taxiway A and stubs.

Avigation/fee simple easement runway 4/22.

Mark runway 4/22 for non-precision approaches.

Expand commuter apron.

Environmental assessment—runway 17/35 extension.

Extend taxiway M.

Enhanced airfield fencing.

Upgrade tower communications.

Brief Description of Disapproved Projects: Purchase land, airport expansion.

Determination: Disapproved. The FAA has determined that the project is not justified at this time. The public agency failed to demonstrate that there was a valid aeronautical need for the land as required in paragraph 702 of FAA Order 5100.38B, AIP Handbook (May 31, 2002).

PFC application 00-04-C-00-VLD.

Determination: Disapproved. This project was previously approved in the 01-05-C-00-VLD PFC decision.

PFC application 01-05-C-00-VLD.

Determination: Disapproved. This project was previously approved in the 01-05-C-00-VLD FPC decision.

Brief Description of Withdrawn Project: Extend runway 17/35 by 700 feet.

Determination: This project was withdrawn by the public agency on October 27, 2003.

Decision Date: October 29, 2003.

FOR FURTHER INFORMATION CONTACT: Philip Cannon, Atlanta Airports District Office, (404) 305-7152.

Amendments to PFC Approvals
Amendment No. City, State | Amendment approved date | Original approved net PFC revenue | Amended approved net PFC revenue | Original estimated charge exp. date | Amended estimate charge exp. date
01-03-C-02-LYH, Lynchburg, VA | 04/18/03 | $705,654 | $705,654 | 06/01/05 | 06/01/05
*98-06-C-01-TYS, Knoxville, TN | 06/26/03 | 57,921,122 | 91,108,707 | 07/01/21 | 07/01/22
*00-01-C-01-BQK, Brunswick, GA | 08/19/03 | 517,141 | 813,170 | 01/01/11 | 09/01/11
99-03-C-02-DJU, Dubois, PA | 09/26/03 | 424,734 | 386,638 | 10/01/04 | 11/01/03
95-02-C-02-EWR, Newark, NJ | 10/14/03 | 281,080,800 | 321,607,000 | 01/01/01 | 03/01/03
95-02-C-02-JFK, New York, NY | 10/14/03 | 263,314,800 | 301,279,500 | 01/01/01 | 03/01/03
95-02-C-02-LGA, New York, NY | 10/14/03 | 211,604,400 | 242,113,500 | 01/01/01 | 03/01/03
97-04-C-01-EWR, Newark, NJ | 10/14/03 | 257,285,600 | 280,783,360 | 01/01/09 | 05/01/09
97-04-C-01-JFK, New York, NY | 10/14/03 | 241,023,600 | 263,036,160 | 01/01/09 | 05/01/09
97-04-C-01-LGA, New York, NY | 10/14/03 | 193,690,800 | 211,380,480 | 01/01/09 | 05/01/09
97-02-C-02-ERI, Erie, PA | 10/17/03 | 1,251,996 | 1,216,914 | 05/01/01 | 05/01/01
98-03-C-04-DCA, Alexandria, VA | 10/20/03 | 53,846,780 | 83,193,187 | 02/01/04 | 06/01/05
02-13-C-01-SJC, San Jose, CA | 10/21/03 | 142,846,000 | 146,485,000 | 05/01/11 | 08/01/14
Note: The amendments denoted by an asterisk (*) include a change to the PFC level charged from $3.00 per enplaned passenger to $4.50 per enplaned passenger. For Knoxville, TN, this change is effective on October 1, 2003. For Brunswick, GA, this change is effective on November 1, 2003.

Issued in Washington, DC on November 25, 2003.
Sheryl Scarborough,
Acting Manager, Financial Analysis and Passenger Facility Charge Branch.

[FR Doc. 03-30023 Filed 12-1-03; 8:45 am]

BILLING CODE 4910-13-M